DEPARTMENT OF HEALTH AND HUMAN SERVICES

Centers for Disease Control and Prevention

[Program Announcement 02050]

Predictive Instrument Research in Technology to Reduce Medical Errors; Notice of Award

A. Purpose

The purpose of the program will be to build upon the lessons learned with clinical predictive instruments (CPIs) in cardiac diseases and to further develop and adapt this technology for use with other clinically important and expensive medical conditions and care.

B. Eligible Applicant

The only eligible applicant is New England Medical Center. No other applications were solicited.

The House of Representatives Conference Report accompanying the Departments of Labor, Health and Human Services, and Education and Related Agencies Appropriation Bill ending September 30, 2002, and For Other Purposes (H.R. 3061, 107th Congress), recognized the New England Medical Center's unique qualifications for carrying out the activities specified in this grant (H.R. Rep. 107-342).

C. Availability of Funds

Approximately $346,146 is available in FY 2002 to fund one award. The award began June 1, 2002, and will be made for a 12-month budget period within a project period of one year.

D. Where To Obtain Additional Information

Should you have questions after reviewing the contents of all the documents, business management technical assistance may be obtained from: René Benyard, Grants Management Specialist, Acquisition and Assistance, Branch B, Procurement and Grants Office, Centers for Disease Control and Prevention (CDC), 2920 Brandywine Road, Room 3000, Mailstop K-75, Atlanta, GA 30341-4146, Telephone: (770) 488-2722, email address: bnb8@cdc.gov.

For program technical assistance, contact: Steve L. Solomon, M.D., Program Management Official, Division of Health Care Quality Promotion, National Center for Infectious Diseases, Centers for Disease Control and Prevention (CDC), 1600 Clifton Road, NE., Mailstop E-55, Atlanta, GA 30333, Telephone: (404) 498-1124, email address: ssolomon@cdc.gov.

Dated: June 11, 2002.
Sandra R. Manning,
Director, Procurement and Grants Office, Centers for Disease Control and Prevention.

[FR Doc. 02-15151 Filed 6-14-02; 8:45 am]

BILLING CODE 4163-18-P